DEPARTMENT OF HEALTH AND HUMAN SERVICES

National Committee on Vital and Health Statistics: Meeting Standards Subcommittee

Pursuant to the Federal Advisory Committee Act, the Department of Health and Human Services (HHS) announces the following advisory committee meeting.

Name: National Committee on Vital and Health Statistics (NCVHS) Subcommittee on Standards

Time and Date: September 18, 2013 8:30 p.m.—5:00 p.m. EDT.

Place: Centers for Disease Control and Prevention, National Center for Health Statistics, 3311 Toledo Road, Auditorium B & C, Hyattsville, Maryland 20782, (301) 458-4524.

Status: Open

Purpose: The health care industry is experiencing major transformative changes as a result of the confluence of various national, regional and local initiatives, including: the Affordable Care Act, the adoption of electronic health records and the Meaningful Use program, implementation of national messaging and vocabulary standards for clinical exchanges, the establishment of regional health information exchanges, and adoption of new administrative standards, including new versions of HIPAA transactions, operating rules, ICD-10 and Health Plan ID. In light of these many pressing demands and requirements, the NCVHS Standards Sub-Committee is interested in developing a roadmap of key healthcare mandates and their impact on health IT standards that identify and map: (1) The various upcoming health care compliance requirements and deadlines that relate to health IT standards, in a multi-year timeline; (2) the milestones needed to successfully achieve these compliance requirements, including the development and testing of standards; (3) the underlying standards needed to achieve those milestones and requirements; (4) the interdependencies of the various compliance requirements, milestones and standards development processes; (5) the gaps, overlaps and issues with these requirements; and, (6) opportunities for better alignment, synergistic coordination, and most effective, appropriate sequencing of requirements, milestones and standards development.

To discuss these issues, this meeting will bring together subject-matter experts and representatives from various stakeholders to discuss questions related to each of the six items identified above in a facilitated exchange format. Topics to be covered include, but will not be limited to: (1) Administrative Transactions, Codes, Identifiers, and Operating Rules; (2) ACA-related health information exchange requirements; (3) Meaningful Use; (4) Quality and Patient Safety; and, (5) Privacy and Security.

Contact Person for More Information: Marjorie S. Greenberg, Executive Secretary, NCVHS, National Center for Health Statistics, Centers for Disease Control and Prevention, 3311 Toledo Road, Room 2402, Hyattsville, Maryland 20782, telephone (301) 458-4245 or Denise Buenning, Centers for Medicare and Medicaid Services, Office of E-Health Standards and Services, 7500 Security Boulevard, Baltimore, Maryland, 21244, telephone (410) 786-6711. Program information as well as summaries of meetings and a roster of committee members are available on the NCVHS home page of the HHS Web site: http://www.ncvhs.hhs.gov/, where further information including an agenda will be posted when available.

Should you require reasonable accommodation, please contact the CDC Office of Equal Employment Opportunity on (301) 458-4EEO (4336) as soon as possible.

Dated: August 26, 2013.
James Scanlon,
Deputy Assistant Secretary for Science and Data Policy, Office of the Assistant Secretary for Planning and Evaluation.

[FR Doc. 2013-21433 Filed 9-3-13; 8:45 am]

BILLING CODE 4151-05-P